FEDERAL LABOR RELATIONS AUTHORITY

5 CFR Chapter XIV

New Addresses and Telephone Numbers for Regional Offices; Jurisdictional Changes

AGENCY: Federal Labor Relations Authority.

ACTION: Final rule.

SUMMARY: This document amends regulations of the Federal Labor Relations Authority and the General Counsel of the Federal Labor Relations Authority to reflect changes in the addresses and phone numbers of Regional Offices, and to provide for changes in the geographical jurisdictions of five of the seven Regional Directors concerning unfair labor practice charges and representation petitions.

DATES: Effective June 16, 2014.

FOR FURTHER INFORMATION CONTACT: Peter A. Sutton, Deputy General Counsel, Federal Labor Relations Authority, Washington DC 20424, (202) 218-7741.

SUPPLEMENTARY INFORMATION: Effective January 28, 1980, the Authority and the General Counsel published, at 45 FR 3482, January 17, 1980, final rules and regulations to govern the processing of cases by the Authority and the General Counsel under chapter 71 of title 5 of the United States Code. These rules and regulations are required by title VII of the Civil Service Reform Act of 1978 and are set forth in 5 CFR Part 2400 et seq. (2014).

Paragraph (d) of Appendix A to 5 CFR Chapter XIV sets forth the current addresses, telephone and fax numbers of the Regional Offices of the Authority. This paragraph has been updated to reflect changes in the addresses and/or phone numbers of the Atlanta, Chicago, Dallas, Denver and San Francisco Regional Offices and the phone numbers of the Chicago and Dallas Regional Offices.

Paragraph (f) of Appendix A to 5 CFR Chapter XIV sets forth the geographic jurisdictions of the Regional Directors of the Authority. In the interest of maximizing the resources of the Office of the General Counsel and efficient and effective case processing, the General Counsel is realigning the geographical jurisdictions of the Regional Directors to more evenly distribute case intake and optimize efficiency and economy. The Office of the General Counsel will continue to transfer cases between regions on a recurring basis, as necessary, based on case intake and staffing in order to maximize its resources.

This amendment merely updates the regulations to reflect the current organizational structure of the Federal Labor Relations Authority. As this rule pertains to agency organization, procedure, or practice, it is exempt from prior notice and public comment pursuant to 5 U.S.C. 553(b)(A). For this same reason, pursuant to 5 U.S.C. 553(d)(3), the agency finds that good cause exists for not providing a more delayed effective date. This type of action is also exempt from review under Executive Orders 12866 (58 FR 51735, October 4, 1993) and 13563 (76 FR 3821, January 21, 2011).

List of Subjects in 5 CFR Chapter XIV

Administrative practice and procedure.

Chapter XIV—Federal Labor Relations Authority

For the reasons set forth in the preamble and under the authority of 5 U.S.C. 7134, Appendix A to 5 CFR Chapter XIV is amended by revising paragraphs (d)(3) through (7) and (f) to read as follows:

Appendix A to 5 CFR Chapter XIV—Current Addresses and Geographic Jurisdictions

* * * * *

(d) * * *

(3) Atlanta Regional Office—225 Peachtree Street, Suite 1950, Atlanta, Georgia 30303-1701; telephone: (404) 331-5300; fax: (404) 331-5280.

(4) Chicago Regional Office—224 S. Michigan Avenue, Suite 445, Chicago, Illinois 60604-2505; telephone: (312) 886-3465; fax: (312) 886-5977.

(5) Dallas Regional Office—525 S. Griffin Street, Suite 926, LB 107, Dallas, Texas 75202-1906; telephone: (214) 767-6266; fax (214) 767-0156.

(6) Denver Regional Office—1244 Speer Boulevard, Suite 446, Denver, Colorado 80204-3581; telephone: (303) 844-5224; fax: (303) 844-2774.

(7) San Francisco Regional Office—901 Market Street, Suite 470, San Francisco, California 94103-1735; telephone: (415) 356-5000; fax: (415) 356-5017.

* * * * *

(f) The geographic jurisdictions of the Regional Directors of the Federal Labor Relations Authority are as follows:

State or other locality | Regional office
Alabama | Atlanta.
Alaska | San Francisco.
Arizona | Denver.
Arkansas | Dallas.
California | San Francisco.
Colorado | Denver.
Connecticut | Boston.
Delaware | Boston.
District of Columbia | Washington, DC.
Florida | Atlanta.
Georgia | Atlanta.
Hawaii and all land and water areas west of the continents of North and South America (except coastal islands) to long. 90 degrees East | San Francisco.
Idaho | San Francisco.
Illinois | Chicago.
Indiana | Chicago.
Iowa | Chicago.
Kansas | Denver.
Kentucky | Chicago.
Louisiana | Dallas.
Maine | Boston.
Maryland | Washington, DC.
Massachusetts | Boston.
Michigan | Chicago.
Minnesota | Chicago.
Mississippi | Atlanta.
Missouri | Chicago.
Montana | Denver.
Nebraska | Denver.
Nevada | San Francisco.
New Hampshire | Boston.
New Jersey | Boston.
New Mexico | Dallas.
New York | Boston.
North Carolina | Atlanta.
North Dakota | Chicago.
Ohio | Chicago.
Oklahoma | Dallas.
Oregon | San Francisco.
Pennsylvania | Boston.
Puerto Rico | Boston.
Rhode Island | Boston.
South Carolina | Atlanta.
South Dakota | Denver.
Tennessee | Chicago.
Texas | Dallas.
Utah | Denver.
Vermont | Boston.
Virginia | Washington, DC.
Washington | San Francisco.
West Virginia | Washington, DC.
Wisconsin | Chicago.
Wyoming | Denver.
Virgin Islands | Atlanta.
Panama/ limited FLRA jurisdiction | Dallas.
All land and water areas east of the continents of North and South America to long. 90 degrees E., except the Virgin Islands, Panama (limited FLRA jurisdiction), Puerto Rico and coastal islands | Washington, DC.

(5 U.S.C. 7134)

Dated: June 10, 2014.
Zachary R. Henige,
Deputy Solicitor.

[FR Doc. 2014-13914 Filed 6-12-14; 8:45 am]

BILLING CODE P